SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: March 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and 806.22(f) for the time period specified above:

Rescinded ABR Issued

1. Pennsylvania General Energy Company, L.L.C., Pad ID: SGL75 PAD C, ABR-201308005, McHenry Township, Lycoming County, Pa.; Rescind Date: March 1, 2018.

2. Pennsylvania General Energy Company, L.L.C., Pad ID: SGL75 PAD D, ABR-201308006, Pine Township, Lycoming County, Pa.; Rescind Date: March 1, 2018.

Authority: Pub. L. 91-575, 84 Stat. 1509 et seq., 18 CFR parts 806, 807, and 808.

Dated: April 20, 2018.
Stephanie L. Richardson,
Secretary to the Commission.

[FR Doc. 2018-08645 Filed 4-24-18; 8:45 am]

BILLING CODE 7040-01-P